DEPARTMENT OF THE INTERIOR

Bureau of Land Management

[ID-074-1654-HB DA5V]

Temporary Closure of Egin Lakes Access Recreation Site to Overnight Camping, ID

AGENCY: Bureau of Land Management, Interior.

ACTION: Notice of closure.

SUMMARY: Notice is hereby given that the following described lands are temporarily closed to overnight camping until further notice during the construction of Egin Lakes Access Recreation Site overnight and day use facilities. The temporary closure is for the protection of public users' health and safety under the provisions of 43 CFR 8364.1 and the Federal Land Policy and Management Act of 1976 (43 U.S.C. 1701). Day use access will still be permitted with the possible exception of days where there is heavy construction activity. Persons with authorizations to utilize the area by BLM regulations, contracts, leases or permits, may use the area described in accordance with those authorizations. This temporary closure will remain in effect for up to three years or until rescinded or modified by the Idaho Falls Field Manager.

EFFECTIVE DATE: This order is effective when published in the Federal Register.

Legal Description:

Boise Meridian, Idaho

Township 7 N, Range 39 E, Section 3: N ½, NW ¼ SW ¼

SUPPLEMENTARY INFORMATION: About 20 acres of public land are involved in the construction project, which is adjacent to the Sand Mountain Wilderness Study Area (WSA) and the 36,900 acre St. Anthony Sand Dunes Special Recreation Management Area (SRMA) in Fremont and Jefferson Counties. Modifications to the site are in accordance with the BLM's overall Recreation Project Site Plan that was approved in August 2001. This project plan involves three phases of development as part of BLM's Deferred Maintenance Program. All three phases are planned to be completed by 2006. The project is to accommodate the current number of users who use the site for dispersed camping and day use parking for access onto the St. Anthony Sand Dunes. Visitor use to the existing four-acre site has increased dramatically during the past two decades. The site received over 88,000 visits in FY2000. The majority of use is from April through October. On most spring and summer weekends and holidays the site with its facilities is over utilized beyond its capacity.

The first phase of the project is to upgrade the existing access road and prepare the surface for a 50-unit campground, visitor contact area, and additional day use parking areas. This phase started last fall and will be completed sometime in the summer of 2003. The site will be posted: Closed to Overnight Camping.

During the construction of the recreation site, the public can camp and access the sand dunes from the nearby private campgrounds or off public land along the Red Road where allowed.

This closure will be monitored and enforced by the BLM and Fremont County Sheriff's Department. Authority for this temporary closure order may be found in 43 CFR 8364.1. Violation of this closure is punishable by a fine not to exceed $1,000.00 and/or imprisonment not to exceed 12 months.

FOR FURTHER INFORMATION CONTACT: Bill Boggs, Bureau of Land Management, Upper Snake River District, Idaho Falls Field Office, 1405 Hollipark Drive, Idaho Falls, Idaho 83401, (208) 524-7527. A map showing the available overnight camping and the closure area will be available from the BLM, Idaho Falls Field Office.

Dated: April 14, 2003.
Carol McCoy Brown,
Idaho Falls Field Manager.

[FR Doc. 03-12517 Filed 5-19-03; 8:45 am]

BILLING CODE 4310-AG-P